DEPARTMENT OF COMMERCE

National Oceanic and Atmospheric Administration

DEPARTMENT OF THE INTERIOR

U.S. Fish and Wildlife Service

[I.D. 041604C]

Marine Mammals and Endangered Species; National Marine Fisheries Service File No. 31-1741; U.S. Fish and Wildlife Service File No. MA081663-0

AGENCY: National Marine Fisheries Service (NMFS), National Oceanic and Atmospheric Administration (NOAA), Commerce; U.S. Fish and Wildlife Service (FWS), Interior.

ACTION: Receipt of an application for a permit from NMFS and FWS.

SUMMARY: Notice is hereby given that the Wildlife Conservation Society (WCS), 2300 Southern Blvd., Bronx, NY 10460 (Dr. Howard C. Rosenbaum, Principal Investigator) has applied in due form for a permit from NMFS and FWS to take parts from species of marine mammals for purposes of scientific research.

DATES: Written or telefaxed comments must be received on or before May 27, 2004.

ADDRESSES: The application request and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and

U.S. Fish and Wildlife Service, Division of Management Authority, 4401 North Fairfax Drive, Room 700, Arlington, VA 22203 (1-800-358-2104).

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 31-1741/MA081663-0.

FOR FURTHER INFORMATION CONTACT: Jennifer Skidmore or Ruth Johnson, Office of Protected Resources, NMFS, (301)713-2289.

SUPPLEMENTARY INFORMATION: The subject permit is requested under the authority of the Marine Mammal Protection Act of 1972, as amended (MMPA; 16 U.S.C. 1361 et seq.), the Regulations Governing the Taking and Importing of Marine Mammals (50 CFR parts 18 and 216), the Fur Seal Act of 1966, as amended (16 U.S.C. 1151 et seq.), the Endangered Species Act of 1973, as amended (ESA; 16 U.S.C. 1531 et seq.), and the regulations governing the taking, importing, and exporting of endangered and threatened species (50 CFR parts 17 and 222-226).

The WCS Conservation Genetics Program, a collaboration between WCS and the American Museum of Natural History, maintains one of the largest collections of marine mammal tissues and specimens in the world. WCS wishes to obtain specimens and materials from all species of cetaceans (Order Cetacea), pinnipeds (Order Pinnipedia) and sirenians (Order Sirenia), as well as sea otters and marine otters. In addition, WCS is applying for permission to keep, import and export tissues obtained from beached or stranded animals and biopsy tissues from free-ranging and captive marine mammals of all species. Such tissues would be obtained by co-investigators or other named individuals and institutions working under their own permits. WCS also wishes to obtain permission to import tissue samples of marine mammals of unknown species for the purpose of forensic analysis and use in scientific studies. Export of specimens or tissues, irrespective of their source, would be made on temporary loan basis only to bona fide institutions for the sole purpose of exhibit or scientific research. A permit is requested for a period of five years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of this application to the Marine Mammal Commission and its Committee of Scientific Advisors.

Dated: April 21, 2004.
Stephen L. Leathery,
Chief, Permits, Conservation and Education Division, Office of Protected Resources, National Marine Fisheries Service.
Dated: April 21, 2004.
Charlie R. Chandler,
Chief, Branch of Permits, Division of Management Authority, U.S. Fish and Wildlife Service.

[FR Doc. 04-9453 Filed 4-26-04; 8:45 am]

BILLING CODE 3510-22-S